DEPARTMENT OF HOMELAND SECURITY

Customs and Border Protection

U.S. Customs and Border Protection Trade Symposium 2003

AGENCY: U.S. Customs and Border Protection, Homeland Security.

ACTION: Notice of trade symposium.

SUMMARY: This document announces that U.S. Customs and Border Protection (CBP) will convene a major trade symposium that will feature joint discussions by Department of Homeland Security and CBP personnel, members of the trade community, and other public and private sector representatives on the agency's role in the new Department, international trade security initiatives and the unification of functions at the border. Commissioner Robert C. Bonner will be the keynote speaker. Members of the international trade and transportation communities and other interested parties are encouraged to attend, and those attending are requested to register early.

DATES: Check-in and a reception will be held on Wednesday, November 19, 2003, from 6 p.m. until 8 p.m. The symposium will be held on Thursday, November 20, 2003, from 8:30 a.m. until 6 p.m. and on Friday, November 21, 2003, from 8 a.m. until 12 p.m. All registrations must be made on-line and confirmed with payment on a space-available basis by November 14th.

ADDRESSES: The Trade Symposium of 2003 will be held in Washington, DC, at the Ronald Reagan Building and International Trade Center, at 1300 Pennsylvania Avenue, NW. Check-in and a reception will be held in the Pavilion Room on Wednesday, November 19th. The symposium will be held in the Amphitheater on Thursday, November 20th, and in the Atrium Ballroom on Friday, November 21st.

FOR FURTHER INFORMATION CONTACT: ACS Client Representatives; CBP Account Managers; Regulatory Audit Trade Liaisons; or the Office of Trade Relations at (202) 927-1440 or at traderelations@dhs.gov. To obtain the latest information on the program or to register on-line, visit the CBP Web site at http://www.cbp.gov. Requests for special needs should be sent to the Office of Trade Relations at traderelations@dhs.gov.

SUPPLEMENTARY INFORMATION: U.S. Customs and Border Protection (CBP) will be convening a major trade symposium (U.S. Customs and Border Protection Trade Symposium 2003) on Thursday, November 20, 2003, from 8:30 a.m. until 6 p.m. and on Friday, November 21, 2003, from 8 a.m. until 12 p.m. at the Ronald Reagan Building and International Trade Center, 1300 Pennsylvania Avenue, NW., Washington, DC. The symposium will feature joint discussions by Department of Homeland Security and CBP personnel, members of the trade community, and other public and private sector representatives on the agency's role in the new Department, international trade security initiatives and the unification of functions at the border. Commissioner Robert C. Bonner will be the keynote speaker. Members of the international trade and transportation communities and other interested parties are encouraged to attend.

The cost is $150 per individual and includes all symposium activities. Interested parties are requested to register early, as space is limited. All registrations must be made on-line at the CBP Web site (http://www.cbp.gov). Registrations will be accepted on a space-available basis and must be confirmed with payment by November 14, 2003. The Renaissance Washington DC Hotel, 999 9th Street, NW., has reserved a block of rooms for Wednesday, November 19th and Thursday, November 20th at a rate of US$189 per night. Reservations must be confirmed with the hotel by October 31st. Call 202-898-9000 or 1-800-228-9290 and reference the “CBP Trade Symposium.”

Dated: October 21, 2003.
Eula D. Walden,
Acting Director, Office of Trade Relations.

[FR Doc. 03-26946 Filed 10-23-03; 8:45 am]

BILLING CODE 4820-02-P